DEPARTMENT OF THE INTERIOR

Fish and Wildlife Service

[Docket No. FWS-HQ-ES-2019-0021; FF09E42000 178 FXES11130900000]

Endangered and Threatened Species; Issuance of Enhancement of Survival and Incidental Take Permits for Safe Harbor Agreements, Candidate Conservation Agreements, and Habitat Conservation Plans, 2018; Issuance of Recovery Permits, July 1, 2017, Through December 31, 2018

AGENCY: Fish and Wildlife Service, Interior.

ACTION: Notice; correction.

SUMMARY: We, the U.S. Fish and Wildlife Service, in accordance with the Endangered Species Act (ESA), provided a list to the public of certain permits issued under the ESA. With some exceptions, the ESA prohibits take of listed species unless a Federal permit is issued that authorizes or exempts the taking under the ESA. In a recent Federal Register notice announcing these permit issuances, we inadvertently made some errors, which we correct via this notice. We regret any inconvenience to the public.

DATES: The notice that published on June 6, 2019, at 84 FR 26424 is now corrected.

ADDRESSES: The notice that published on June 6, 2019, at 84 FR 26424 and this correction notice may be found on www.regulations.gov in Docket No. FWS-HQ-ES-2019-0021.

FOR FURTHER INFORMATION CONTACT: For general information about the ESA permit process, contact Karen Anderson, via phone at 703-358-2301,via email at karen_anderson@fws.gov, or via the Federal Relay Service at 800-877-8339.

SUPPLEMENTARY INFORMATION: We, the U.S. Fish and Wildlife Service, in accordance with section 10(d) of the Endangered Species Act of 1973 (ESA; 16 U.S.C. 1531 et seq.), as amended, periodically provide lists to the public of the permits issued under sections 10(a)(1)(A) and 10(a)(1)(B) of the ESA. On June 6, 2019 (84 FR 26424), we published a Federal Register notice that provided a summary of our permit issuances for Candidate Conservation Agreements with Assurances, Safe Harbor Agreements, and Habitat Conservation Plans for calendar year 2018, and for Recovery Permits issued between July 1, 2017, and December 31, 2018. Unfortunately, due to some technical errors, our list was incomplete, and some permit information appeared in the wrong lists. In this notice, we correct those errors. Please see the original notice for additional background information regarding our permit issuance process.

Corrections

In notice document 84 FR 26424 appearing on pages 26424-26436 of the Federal Register in the issue of Thursday, June 6, 2019, we make the following corrections:

On page 26424, the names of the following three permittees are corrected for Habitat Conservation Plan (HCP) and Safe Harbor Agreement (SHA) permits. All other permits issued under an HCP or SHA listed throughout the original notice remain the same.

Hawaii, Idaho, Oregon (except for the Klamath Basin), Washington, American Samoa, Commonwealth of the Northern Mariana Islands, Guam, and the Pacific Trust Territories

Permit No. | Plan or agreement type | Permittee | Date issued
TE72314C-0 | HCP (WA) | Walters Grandchildren Washington, LLC | 6/14/2018
TE01952D-0 | HCP (HI) | Na Pua Makani Power Partners, LLC | 9/7/2018
TE57529C-0 | SHA (WA) | Graysmarsh, LLC | 3/7/2018

Beginning on page 26425, the full list of Recovery Permits issued from July 1, 2017, to December 31, 2018, for the indicated States and Territories are republished as follows:

Hawaii, Idaho, Oregon (except for the Klamath Basin), Washington, American Samoa, Commonwealth of the Northern Mariana Islands, Guam, and the Pacific Trust Territories

Permit No. | Plan or agreement type | Permittee | Date issued
TE36166C | Recovery | Herron, Gretchen J | 7/5/2017.
TE31740C | Recovery | U.S. Forest Service—Siuslaw National Forest | 7/5/2017.
TE39372B | Recovery | Institute for Natural Resource, Portland State University | 7/6/2017.
TE027734 | Recovery | Oregon Cooperative Fish and Wildlife Service Research Unit | 7/10/2017.
TE97807A | Recovery | Oregon Parks and Recreation Department | 7/12/2017.
TE25955C | Recovery | Price, Melissa R | 7/13/2017.
TE41449C | Recovery | S.P. Cramer & Associates | 8/3/2017.
TE001103 | Recovery | Chelan County Public Utility District No. 1 | 8/3/2017.
TE41558C | Recovery | Natural Systems Design, Inc | 8/9/2017.
TE19806C | Recovery | Environmental Solutions and Innovations, Inc | 8/11/2017.
TE018078 | Recovery | Hawaii Volcanoes National Park | 8/28/2017.
TE40123A | Recovery | U.S. Army Garrison—Pohakuloa Training Area | 11/7/2017.
TE702631 | Recovery | U.S. Fish and Wildlife Service, Region 1 | 9/5/2017, 11/30/2017 (issued twice during this time period).
TE53969C | Recovery | University of Hawaii at Hilo | 12/11/2017.
TE40879B | Recovery | Grette Associates, LLC | 12/20/2017.
TE070589 | Recovery | Pacific Northwest Research Station, U.S. Forest Service | 1/19/2018.
TE081309 | Recovery | Weyerhauser Company | 2/28/2018.
TE62696C | Recovery | Assured Bio Lab, LLC | 3/16/2018.
TE09155B | Recovery | Ha, Renee Robinette | 3/26/2018.
TE025731 | Recovery | Washington State Department of Transportation | 3/26/2018.
TE64600C | Recovery | University of Guam, Center for Island Sustainability | 4/11/2018.
TE043638 | Recovery | U.S. Army Garrison—Hawaii, Directorate of Public Works—Environmental Division | 4/23/2018.
TE25955C | Recovery | Price, Melissa R | 7/13/2017, 5/14/2018 (issued twice during this time period).
TE89863B | Recovery | Oregon State University | 5/16/2018.
TE043875 | Recovery | U.S. Geological Survey, Columbia River Research Laboratory | 6/1/2018.
TE003483 | Recovery | U.S. Geological Survey, Pacific Island Ecosystems Research | 6/6/2018.
TE38768B | Recovery | Micronesian Environmental Services | 6/6/2018.
TE21217B | Recovery | Oregon Department of Transportation | 6/6/2018.
TE844478 | Recovery | Kalispel Tribe of Indians | 6/6/2018.
TE63382B | Recovery | Nyman, Stephen | 6/6/2018.
TE28364B | Recovery | Moore, Randall P | 6/11/2018.
TE72492B | Recovery | Electron Hydro, LLC | 6/20/2018.
TE068143 | Recovery | Eastern Washington University | 6/26/2018.
TE90982C | Recovery | Brady, Megan E | 7/11/2018.
TE93243C | Recovery | Francis, Tessa B | 7/11/2018.
TE056557 | Recovery | U.S. Bureau of Reclamation | 7/17/2018.
TE78405C | Recovery | Guam Plant Extinction Prevention Program | 7/19/2018.
TE87849C | Recovery | Umatilla National Forest | 7/19/2018.
TE799558 | Recovery | Idaho Power Company | 7/23/2018.
TE67017A | Recovery | NOAA/NMFS Northwest Fisheries Science Center | 7/24/2018.
TE78730C | Recovery | Wescom, Robert W | 8/3/2018.
TE98709C | Recovery | U.S. Geological Survey, Western Fisheries Research Center | 8/8/2018.
TE72088A | Recovery | NOAA/NMFS Pacific Islands Fisheries Science Center | 8/9/2018.
TE82868C | Recovery | University of Guam, Marine Laboratory | 8/27/2018.
TE98722C | Recovery | Campbell Environmental | 8/27/2018.
TE060179 | Recovery | Zoological Society of San Diego | 9/10/2018.
TE014497 | Recovery | Haleakala National Park | 1/10/2018, 9/10/2018 (issued twice during this time period).
TE03784D | Recovery | Parker, Michael S | 9/10/2018.
TE19045C | Recovery | Hawaii Department of Land and Natural Resources—Division of Forestry and Wildlife | 9/21/2018.
TE99044C | Recovery | U.S. Army Corps of Engineers | 9/27/2018.
TE69397C | Recovery | Seattle Aquarium | 12/20/2018.
TE45531B | Recovery | Hawaii Division of Forestry and Wildlife | 12/21/2018.

Alabama, Arkansas, Florida, Georgia, Kentucky, Louisiana, Mississippi, North Carolina, South Carolina, and Tennessee, Commonwealth of Puerto Rico, and the U.S. Virgin Islands:

Permit No. | Plan or agreement | Permittee | Date issued
TE040423 | Recovery | Roe, Kevin J | 7/5/2017.
TE42183A | Recovery | Eglin Air Force Base | 7/19/2017.
TE125620 | Recovery | Burns & McDonnell Engineering Company, Inc | 7/19/2017.
TE98596B | Recovery | Veselka, Sarah Elizabeth | 7/26/2017.
TE98486B | Recovery | University of Mississippi Biology Department | 8/2/2017.
TE40523A | Recovery | Nelson, David H | 8/7/2017.
TE117405 | Recovery | Tennessee Valley Authority | 8/20/2017.
TE002412 | Recovery | Comalander, Cecil Lamar | 8/22/2017.
TE78919A | Recovery | East Coast Zoological Society | 8/25/2017.
TE59798B | Recovery | Daguna Consulting, LLC | 8/25/2017.
TE121059 | Recovery | Round Mountain Biological & Environmental Studies, Inc | 8/25/2017.
TE070846 | Recovery | Walters, Jeffrey R | 8/29/2017.
TE68616B | Recovery | Atkinson, Carla Lee | 8/29/2017.
TE23537C | Recovery | Appalachian Ecological Services, LLC | 9/6/2017.
TE079883 | Recovery | Arkansas Highway and Transportation Department | 9/7/2017.
TE65334A | Recovery | Molano-Flores, Brenda | 9/13/2017.
TE47720B | Recovery | Perez, Hector E | 9/15/2017.
TE171516 | Recovery | Copperhead Environmental Consulting, Inc | 9/15/2017.
TE30733C | Recovery | Thalken, Marissa Michelle | 9/15/2017.
TE237544 | Recovery | Golladay, Stephen W | 10/2/2017.
TE06337C | Recovery | Loughman, Zachary J | 10/2/2017.
TE34387C | Recovery | U.S. Fish and Wildlife Service | 10/5/2017.
TE055241 | Recovery | Montgomery, Robert L | 10/10/2017.
TE12169B | Recovery | Mitigation Management | 10/10/2017.
TE91733B | Recovery | Adams, Joshua J | 10/17/2017.
TE02167C | Recovery | Gore, James William | 10/18/2017.
TE37652B | Recovery | Blue Ridge Parkway—National Park Service | 10/27/2017.
TE00479C | Recovery | Johnson, Kevin Layne | 11/1/2017.
TE206894 | Recovery | Rothermel, Betsie B | 11/2/2017.
TE81756A | Recovery | Robinson, Jason B | 11/13/2017.
TE063179 | Recovery | Edwards-Pitman Environmental, Inc | 11/14/2017.
TE106708 | Recovery | Morrison, Joan L | 11/19/2017.
TE05565B | Recovery | UT-Batelle Corp | 12/5/2017.
TE98532B | Recovery | Fridell, John A | 12/6/2017.
TE43261B | Recovery | Altman, Ann M | 12/8/2017.
TE148282 | Recovery | Wilhide, Jack (J.D.) D | 12/13/2017.
TE57120C | Recovery | Altamaha Environmental Consulting, LLC | 12/15/2017.
TE55292B | Recovery | University of Florida | 12/20/2017.
TE43264B | Recovery | Riddle, Nicole Levinson | 12/20/2017.
TE33465A | Recovery | USDA Forest Service, National Forests in Alabama | 12/21/2017.
TE31057A | Recovery | North Carolina Wildlife Resources Commission | 1/4/2018.
TE05526B | Recovery | Robinson, Jesse R | 1/5/2018.
TE069280 | Recovery | Alabama Department of Transportation | 1/16/2018.
TE88823B | Recovery | Schaetz, Brian Abney | 1/18/2018.
TE98424B | Recovery | U.S. Geological Survey | 2/10/2018.
TE089074 | Recovery | Corblu Ecology Group, LLC | 2/19/2018.
TE087194 | Recovery | Goethe State Forest | 2/27/2018.
TE100626 | Recovery | Selby Environmental, Inc | 3/2/2018.
TE060988 | Recovery | Fort Jackson | 3/5/2018.
TE129703 | Recovery | HMB Professional Engineers, Inc | 3/20/2018.
TE075916 | Recovery | Virzi, Thomas | 3/21/2018.
TE28975C | Recovery | Stallsmith, Bruce Wagner | 3/22/2018.
TE71854A | Recovery | Eargle, David A | 3/22/2018.
TE26554C | Recovery | Central Florida Zoological Society | 3/22/2018.
TE34429C | Recovery | Buschhaus, Nancy L | 3/23/2018.
TE63577A | Recovery | Mammoth Cave National Park | 3/29/2018.
TE049654 | Recovery | Gordon, William David | 4/2/2018.
TE171545 | Recovery | Redman, Ronald K | 4/2/2018.
TE37219B | Recovery | Perry, Roger W | 4/4/2018.
TE91373A | Recovery | Miller, Jonathan M | 4/4/2018.
TE070800 | Recovery | Ecological Solutions, Inc | 4/10/2018.
TE034476 | Recovery | Florida Forest Service | 4/15/2018.
TE79580A | Recovery | Butler, Jason M | 4/15/2018.
TE206872 | Recovery | O'Keefe Joy Marie | 4/19/2018.
TE61573C | Recovery | University of Southern Mississippi | 4/22/2018.
TE78148C | Recovery | Dinkins, Barbara J | 4/22/2018.
TE38792A | Recovery | U.S. Army Fort Gordon | 4/24/2018.
TE132409 | Recovery | O'Neill Gary R | 4/25/2018.
TE22311A | Recovery | George, Anna L | 4/30/2018.
TE812344 | Recovery | Pennington and Associates, Inc | 4/30/2018.
TE106005 | Recovery | Breininger, David R | 5/1/2018.
TE070796 | Recovery | Apogee Environmental & Archaeological, Inc | 5/18/2018.
TE56749B | Recovery | Moore, Patrick R | 5/22/2018.
TE56746B | Recovery | Johnson, Joseph S | 5/24/2018.
TE056510 | Recovery | Pechmann, Joseph H.K | 6/1/2018.
TE14105A | Recovery | Breedlove, Dennis and Associates, Inc | 6/7/2018.
TE87861C | Recovery | Boyd, Jennifer N | 6/7/2018.
TE73104C | Recovery | Sorenson, Clyde E | 6/11/2018.
TE48579B | Recovery | Ecological Solutions, Inc | 6/13/2018.
TE20269C | Recovery | Byerly, Paige A | 6/22/2018.
TE56430B | Recovery | Hootman, Jonathan R | 6/22/2018.
TE102292 | Recovery | Jackson, Jeremy Lynn | 6/22/2018.
TE25343A | Recovery | Volkert, Inc | 6/22/2018.
TE80381A | Recovery | Department of Defense (Army) | 6/25/2018.
TE94704A | Recovery | Brown, Dorothy C | 6/26/2018.
TE57873C | Recovery | Arkansas Natural Heritage Commission | 6/26/2018.
TE171577 | Recovery | Fort Chaffee Joint Maneuver Training Center | 6/27/2018.
TE65550A | Recovery | Gawlik, Dale E | 6/28/2018.
TE142294 | Recovery | Holimon, William (Bill) C | 7/6/2018.
TE088889 | Recovery | The Nature Conservancy | 7/9/2018.
TE16616C | Recovery | Nupp, Thomas E | 7/9/2018.
TE065972 | Recovery | U.S. Forest Service | 7/10/2018.
TE41910B | Recovery | Rush, Scott Anderson | 7/10/2018.
TE77197C | Recovery | U.S. Army Corps of Engineers | 7/10/2018.
TE94667A | Recovery | Mobile County Commission | 7/13/2018.
TE64767C | Recovery | Collins, John H | 7/16/2018.
TE37490B | Recovery | Littrell, Melissa Toncray | 7/29/2018.
TE94728A | Recovery | Environmental Consulting Operations, Inc | 7/29/2018.
TE022468 | Recovery | Endangered Species, Branch, U.S. Department of Defense | 7/30/2018.
TE37663B | Recovery | Ijames, Rebecca D | 7/30/2018.
TE119937 | Recovery | Loeb, Susan Carol | 7/30/2018.
TE21809A | Recovery | Folk, Monica L | 7/31/2018.
TE237548 | Recovery | Counts, Tommy U | 8/1/2018.
TE066980 | Recovery | Rutledge, Brandon Ty | 8/2/2018.
TE73593C | Recovery | Parks, Cody A | 8/7/2018.
TE27608B | Recovery | McGehee Engineering Corporation | 8/9/2018.
TE108990 | Recovery | Spears, Ronald E | 8/12/2018.
TE37492B | Recovery | Grow, Anthony Christopher | 8/12/2018.
TE63633A | Recovery | Biodiversity Research Institute | 8/14/2018.
TE54578B | Recovery | Frazer, Mary E | 8/14/2018.
TE237549 | Recovery | Holliday, Cory | 8/14/2018.
TE64393C | Recovery | Vanasse Hangen Brustlin, Inc | 8/14/2018.
TE59645B | Recovery | Brock, Stephen C | 8/30/2018.
TE37900B | Recovery | Lauerman, Sarah A | 9/6/2018.
TE53149B | Recovery | Otto, Hans William | 9/7/2018.
TE75551C | Recovery | Arant, Phillip Lee | 9/11/2018.
TE237535 | Recovery | Bok Tower Gardens | 9/12/2018.
TE077258 | Recovery | University of Florida | 9/20/2018.
TE28025A | Recovery | The Orianne Society | 9/21/2018.
TE121400 | Recovery | Fort Worth Zoo | 9/26/2018.
TE65968A | Recovery | Dickey, Richard Jason | 9/28/2018.
TE46056C | Recovery | Ceilley, David W | 10/23/2018.
TE027344 | Recovery | Chattahoochee-Oconee National Forests | 10/26/2018.
TE18986C | Recovery | North Carolina Zoological Park | 11/6/2018.
TE78383C | Recovery | Casto, Joel Patrick | 12/19/2018.
TE206777 | Recovery | Ralph Costa's Woodpecker Outfit, LLC | 12/20/2018.

Beginning on page 46431, the following permits should be added to the list of issued permits to the tables corresponding to the States and Territories indicated below. All other permits listed in these tables remain the same.

Colorado, Kansas, Montana, Nebraska, North Dakota, South Dakota, Utah, and Wyoming

Permit No. | Plan or agreement | Permittee | Date issued
TE201549 | HCP | The Nature Conservancy | 7/25/2018.
TE27485B | Recovery | Dixie State University | 5/13/2018.
TE66969B | Recovery | CEMML—Colorado State University | 11/27/2018.

California, Nevada, and the Klamath Basin Portion of Oregon

Permit number | Plan or agreement | Permittee | Date issued
TE37481A | Recovery | Wood, Justin | 11/13/2017.
TE823990 | Recovery | Wildwing-Schultz, Sandra | 3/8/2018.
TE72875C | Recovery | Boyd, Ian | 12/12/2018.

Dated: June 27, 2019.
Martha Balis-Larsen,
Acting Assistant Director for Ecological Services.

[FR Doc. 2019-14125 Filed 7-2-19; 8:45 am]

BILLING CODE 4333-15-P